DEPARTMENT OF COMMERCE

National Oceanic and Atmospheric Administration

50 CFR Part 622

[Docket No. 130312235-3658-02]

RIN 0648-XF730

Fisheries of the Caribbean, Gulf of Mexico, and South Atlantic; 2017 Commercial Accountability Measure and Closure for South Atlantic Vermilion Snapper

AGENCY: National Marine Fisheries Service (NMFS), National Oceanic and Atmospheric Administration (NOAA), Commerce.

ACTION: Temporary rule; closure.

SUMMARY: NMFS implements an accountability measure (AM) for the commercial sector for vermilion snapper in the South Atlantic exclusive economic zone (EEZ). NMFS projects that commercial landings of vermilion snapper will reach the commercial annual catch limit (ACL) for the July through December 2017 fishing period by October 17, 2017. Therefore, NMFS closes the commercial sector for vermilion snapper in the South Atlantic EEZ on October 17, 2017, and it will remain closed until January 1, 2018, the start of the January through June commercial fishing season. This closure is necessary to protect the South Atlantic vermilion snapper resource.

DATES: This rule is effective from 12:01 a.m., local time, October 17, 2017, until 12:01 a.m., local time, January 1, 2018.

FOR FURTHER INFORMATION CONTACT: Mary Vara, NMFS Southeast Regional Office, telephone: 727-824-5305, email: mary.vara@noaa.gov.

SUPPLEMENTARY INFORMATION: The snapper-grouper fishery of the South Atlantic includes vermilion snapper and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

The commercial ACL (equivalent to the commercial quota) for vermilion snapper in the South Atlantic is divided into separate quotas for two 6-month periods each year, January through June and July through December. The commercial quota for vermilion snapper in the South Atlantic is 388,703 lb (176,313 kg), gutted weight (431,460 lb (195,707 kg), round weight), for the July 1 through December 31, 2017, fishing period, as specified in 50 CFR 622.190(a)(4)(ii)(D).

On September 28, 2017 (82 FR 45207), NMFS published a temporary rule in the Federal Register to reduce the commercial trip limit for vermilion snapper in or from the South Atlantic EEZ to 500 lb (227 kg), gutted weight, effective at 12:01 a.m., local time, October 2, 2017, until January 1, 2018, or until the commercial quota was reached and the commercial sector closed, whichever would occur first.

In accordance with regulations at 50 CFR 622.193(f)(1), NMFS is required to close the commercial sector for vermilion snapper when the commercial quota for that 6-month period of the fishing year has been reached, or is projected to be reached, by filing a notification to that effect with the Office of the Federal Register. NMFS has determined that the commercial quota for South Atlantic vermilion snapper for the July through December fishing period will be reached by October 17, 2017. Accordingly, the commercial sector for South Atlantic vermilion snapper is closed effective at 12:01 a.m., local time, October 17, 2017, until 12:01 a.m., local time, January 1, 2018.

The operator of a vessel with a valid commercial vessel permit for South Atlantic snapper-grouper with vermilion snapper on board must have landed and bartered, traded, or sold such vermilion snapper prior to 12:01 a.m., local time, October 17, 2017. During the commercial closure, the recreational bag limit specified in 50 CFR 622.187(b)(5) and the possession limits specified in 50 CFR 622.187(c)(1) apply to all harvest or possession of vermilion snapper in or from the South Atlantic EEZ. Also during the commercial closure, the sale or purchase of vermilion snapper taken from the EEZ is prohibited. As specified in 50 CFR 622.190(c)(1)(i), the prohibition on sale or purchase does not apply to the sale or purchase of vermilion snapper that were harvested, landed ashore, and sold prior to 12:01 a.m., local time, October 17, 2017, and were held in cold storage by a dealer or processor. For a person on board a vessel issued a Federal commercial or charter vessel/headboat permit for the South Atlantic snapper-grouper fishery, the recreational bag and possession limits and the sale and purchase provisions of the commercial closure for vermilion snapper apply regardless of whether the fish are harvested in state or Federal waters, as specified in 50 CFR 622.190(c)(1)(ii).

Classification

The Regional Administrator for the NMFS Southeast Region has determined this temporary rule is necessary for the conservation and management of South Atlantic vermilion snapper and is consistent with the Magnuson-Stevens Act and other applicable laws.

This action is taken under 50 CFR 622.193(f)(1) and is exempt from review under Executive Order 12866.

This action responds to the best scientific information available. The Assistant Administrator for NOAA Fisheries (AA) finds that the need to immediately implement this action to close the commercial sector for vermilion snapper constitutes good cause to waive the requirements to provide prior notice and opportunity for public comment pursuant to the authority set forth in 5 U.S.C. 553(b)(B), as such procedures would be unnecessary and contrary to the public interest. Such procedures are unnecessary because the final rule implementing the AM has been subject to public notice and comment, and all that remains is to notify the public of the closure. Allowing prior notice and opportunity for public comment is contrary to the public interest because of the need to immediately implement this action to protect vermilion snapper, since the capacity of the fishing fleet allows for rapid harvest of the commercial quota. Prior notice and opportunity for public comment would require time and could result in a harvest well in excess of the established commercial quota.

For the aforementioned reasons, the AA also finds good cause to waive the 30-day delay in the effectiveness of this action under 5 U.S.C. 553(d)(3).

Authority: 16 U.S.C. 1801 et seq.

Dated: October 10, 2017.
Emily H. Menashes,
Acting Director, Office of Sustainable Fisheries, National Marine Fisheries Service.

[FR Doc. 2017-22211 Filed 10-12-17; 8:45 am]

BILLING CODE 3510-22-P